FEDERAL COMMUNICATIONS COMMISSION

47 CFR Part 73

[MB Docket No. 22-435; RM-11940; DA 23-158; FR ID 133151]

Television Broadcasting Services Odessa, Texas

AGENCY: Federal Communications Commission.

ACTION: Final rule.

SUMMARY: On December 9, 2022, the Media Bureau, Video Division (Bureau) issued a Notice of Proposed Rulemaking (NPRM) in response to a petition for rulemaking filed by Gray Television Licensee, LLC (Petitioner or Gray), the licensee of KOSA-TV (Station or KOSA-TV), channel 7, Odessa, Texas, requesting the substitution of channel 31 for channel 7 at Odessa in the Table of TV Allotments. For the reasons set forth in the Report and Order referenced below, the Bureau amends Federal Communications Commission (FCC) regulations to substitute channel 31 for channel 7 at Odessa.

DATES: Effective March 27, 2023.

FOR FURTHER INFORMATION CONTACT: Joyce Bernstein, Media Bureau, at (202) 418-1647 or Joyce.Bernstein@fcc.gov.

SUPPLEMENTARY INFORMATION: The proposed rule was published at 88 FR 42 on January 3, 2023. The Petitioner filed comments in support of the petition reaffirming its commitment to apply for channel 31. No other comments were filed.

The Bureau believes the public interest would be served by substituting channel 31 for channel 7 at Odessa, Texas. The proposed channel substitution will resolve significant over-the-air reception problems in KOSA-TV's existing service area. The Petitioner further states that the Commission has recognized the deleterious effects manmade noise has on the reception of digital VHF signals, and that the propagation characteristics of these channels allow undesired signals and noise to be receivable at relatively farther distances compared to UHF channels and nearby electrical devices can cause interference. According to the Petitioner, although the proposed channel 31 facility would result in a slight reduction in the predicted population served, once terrain-limited coverage predications are taken into account, the proposed channel 31 facility will result in a loss of service to 36 people, a number which the Commission considers de minimis This is a synopsis of the Commission's Report and Order, MB Docket No. 22-435; RM-11940; DA 23-158, adopted March 1, 2023, and released March 1, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of TV Allotments, under Texas, by revising the entry for Odessa to read as follows:

§ 73.622 Digital television table of allotments.

* * * * *

(j) * * *

Community | Channel No.
* * * * *
TEXAS
* * * * *
Odessa | 9, 15, 23, *28, 30, 31.
* * * * *

[FR Doc. 2023-06236 Filed 3-24-23; 8:45 am]

BILLING CODE 6712-01-P